DEPARTMENT OF COMMERCE

National Oceanic and Atmospheric Administration

RIN 0648-XO45

Marine Mammals; File No. 14241

AGENCY: National Marine Fisheries Service (NMFS), National Oceanic and Atmospheric Administration (NOAA), Commerce.

ACTION: Notice; issuance of permit amendment.

SUMMARY: Notice is hereby given that Peter Tyack, Ph.D., Woods Hole Oceanographic Institution, Woods Hole, MA, has been issued a minor amendment to Scientific Research Permit No. 14241-05.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa L. González or Amy Hapeman, (301) 427-8401.

SUPPLEMENTARY INFORMATION: The requested amendment has been granted under the authority of the Marine Mammal Protection Act of 1972, as amended (16 U.S.C. 1361 et seq.) and the regulations governing the taking and importing of marine mammals (50 CFR part 216).

The original permit (No. 14241), issued on July 15, 2009 (74 FR 36668) authorized conduct research on cetacean behavior, sound production, and responses to sound through July 31, 2014. The research methods include tagging marine mammals with an advanced digital sound recording tag that records the acoustic stimuli an animal hears and measures vocalization, behavior, and physiological parameters. Research also involves conducting sound playbacks in a carefully controlled manner and measuring animals' responses. The principal study species are beaked whales, especially Cuvier's beaked whale (Ziphius cavirostris), and large delphinids such as long-finned pilot whales (Globicephala melas), although other small cetacean species may also be studied. The locations for the field work are the Mediterranean Sea, waters off of the mid-Atlantic United States, and Cape Cod Bay. Amendments to the original permit added cetacean species, modified methodology protocols, and added study locations. The minor amendment (No. 14241-05) extends the duration of the permit through July 31, 2015, but does not change any other terms or conditions of the permit.

Dated: July 31, 2014.
Julia Harrison,
Chief, Permits and Conservation Division, Office of Protected Resources, National Marine Fisheries Service.

[FR Doc. 2014-18503 Filed 8-4-14; 8:45 am]

BILLING CODE 3510-22-P